SOCIAL SECURITY ADMINISTRATION

20 CFR Part 404

[Regulation No. 4]

RIN 0960-AB01

Revised Medical Criteria for Determination of Disability, Musculoskeletal System and Related Criteria; Correction

AGENCY: Social Security Administration.

ACTION: Correcting amendments.

SUMMARY: This document contains corrections to the final regulations that were published in the Federal Register of Monday, November 19, 2001 (66 FR 58010). The regulations revised the criteria in our Listing of Impairments (the listings) that we use to evaluate musculoskeletal impairments in adults and children.

DATES: Effective on February 19, 2002.

FOR FURTHER INFORMATION CONTACT: Suzanne DiMarino, Social Insurance Specialist, Office of Process and Innovation Management, Social Security Administration, 2109 West Low Rise Building, 6401 Security Boulevard, Baltimore, Maryland 21235-6401, (410) 965-1769 or TTY (410) 966-5609.

For information on eligibility or filing for benefits, call our national toll-free number, 1-800-772-1213 or TTY 1-800-325-0778, or visit our Internet web site, Social Security Online, at www.ssa.gov.

SUPPLEMENTARY INFORMATION:

Background

The final regulations that are the subject of these corrections affect disability determinations and decisions we make for individuals under title II and title XVI of the Social Security Act. In addition, to the extent that Medicare and Medicaid eligibility are based on entitlement to benefits under title II and eligibility for benefits under title XVI, these corrections would also affect the Medicare and Medicaid programs.

Need for Correction

As published, the final regulations inadvertently did not update the cross-references in listings 111.07A and 111.08A of part B of the listings to reflect the new musculoskeletal listings criteria. The cross-references in current listings 111.07A and 111.08A are to listings 101.03 or 111.06. To reflect the revised musculoskeletal listings, the correct cross-references should be to listings 101.02 or 111.06.

List of Subjects in 20 CFR Part 404

Administrative practice and procedure, Blind, Disability benefits, Old-Age, Survivors, and Disability Insurance, Reporting and recordkeeping requirements, Social Security.

Accordingly, 20 CFR part 404, Subpart P, is corrected by making the following correcting amendments:

PART 404—FEDERAL OLD-AGE, SURVIVORS AND DISABILITY INSURANCE (1950-)

1. The authority citation for subpart P of part 404 continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189.

2. Revise the introductory text and paragraph A. in listings 111.07 and 111.08 of Part B of appendix 1 of Subpart P of part 404 to read as follows:

Appendix 1 to Subpart P of Part 404—Listing of Impairments {Amended}

* * * * *

Part B

* * * * *

111.01 Category of Impairments, Neurological

* * * * *

111.07 Cerebral Palsy. With:

A. Motor dysfunction meeting the requirements of 101.02 or 111.06; or

* * * * *

111.08 Meningomyelocele (and related disorders). With one of the following despite prescribed treatment:

A. Motor dysfunction meeting the requirements of 101.02 or 111.06; or

* * * * *

Georgia E. Myers,
SSA Regulations Officer.

[FR Doc. 02-12553 Filed 5-20-02; 8:45 am]

BILLING CODE 4191-02-P